DEPARTMENT OF THE INTERIOR

National Park Service

[NPS-WASO-NAGPRA-NPS0035773; PPWOCRADN0-PCU00RP14.R50000]

Notice of Inventory Completion: U.S. Army Corps of Engineers, Savannah District, Savannah, GA

AGENCY: National Park Service, Interior.

ACTION: Notice.

SUMMARY: In accordance with the Native American Graves Protection and Repatriation Act (NAGPRA), the U.S. Army Corps of Engineers, Savannah District, has completed an inventory of human remains and associated funerary objects and has determined that there is a cultural affiliation between the human remains and associated funerary objects and Indian Tribes or Native Hawaiian organizations in this notice. The human remains and associated funerary objects were removed from Columbia County, GA.

DATES: Repatriation of the human remains and associated funerary objects in this notice may occur on or after June 5, 2023.

ADDRESSES: Mr. Rodney Parker, Regulatory Archeologist and District Tribal Liaison, U.S. Army Corps of Engineers, Savannah District, 100 W Oglethorpe Avenue, Savannah, GA 31401, telephone (912) 652-5964, email Rodney.D.Parker@usace.army.mil.

SUPPLEMENTARY INFORMATION: This notice is published as part of the National Park Service's administrative responsibilities under NAGPRA. The determinations in this notice are the sole responsibility of the U.S. Army Corps of Engineers, Savannah District. The National Park Service is not responsible for the determinations in this notice. Additional information on the determinations in this notice, including the results of consultation, can be found in the inventory or related records held by the U.S. Army Corps of Engineers, Savannah District.

Description

Human remains representing, at minimum, six individuals were removed from Columbia County, GA. Between 1948-1951, the National Park Service's River Basin Survey conducted archeological investigations at the Lake Springs Village site (9CB22), located within the former Clark's Hill Lake, now Thurmond Lake. Subsequent excavations at this site were conducted by the Smithsonian Institution on behalf of the Savannah District in response to the imminent construction of Thurmond Lake. The human remains belong to four adults, one of whom is likely male, and two individuals for whom no further information is available. No known individuals were identified. (Additional human remains and cultural objects removed from this site are housed at the Smithsonian Institution and are under its control.) The 425 associated funerary objects are two rocks, three wood fragments, one lot of soil matrix, two bone tools, 21 gastropod shells, one matrix nodule with bone, one lot of bone and shell in matrix, six turtle shell fragments, 185 faunal remains, 99 potsherds, six projectile points, one quartz projectile point, 38 lithics, one petrified wood, one biface, 14 noncultural objects, two fire-cracked rocks, two worked bones, 22 shell, four flakes, one projectile point base, one quartz nodule, one quartz thumb scraper, two worked quartz, and eight unidentified clay items.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, biological, geographical, historical, other relevant information, and expert opinion.

Determinations

Pursuant to NAGPRA and its implementing regulations, and after consultation with the appropriate Indian Tribes and Native Hawaiian organizations, the U.S. Army Corps of Engineers, Savannah District, has determined that:

• The human remains described in this notice represent the physical remains of six individuals of Native American ancestry.

• The 425 objects described in this notice are reasonably believed to have been placed with or near individual human remains at the time of death or later as part of the death rite or ceremony.

• There is a relationship of shared group identity that can be reasonably traced between the human remains and associated funerary objects described in this notice and The Muscogee (Creek) Nation.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after June 5, 2023. If competing requests for repatriation are received, the U.S. Army Corps of Engineers, Savannah District, must determine the most appropriate requestor prior to repatriation. Requests for joint repatriation of the human remains and associated funerary objects are considered a single request and not competing requests. The U.S. Army Corps of Engineers, Savannah District, is responsible for sending a copy of this notice to the Indian Tribe identified in this notice.

Authority: Native American Graves Protection and Repatriation Act, 25 U.S.C. 3003, and the implementing regulations, 43 CFR 10.9, § 10.10, and § 10.14.

Dated: April 25, 2023.
Melanie O'Brien,
Manager, National NAGPRA Program.

[FR Doc. 2023-09475 Filed 5-3-23; 8:45 am]

BILLING CODE 4312-52-P